SMALL BUSINESS ADMINISTRATION

[Declaration of Disaster #3212; Amendment #6]

State of North Carolina

In accordance with information received from the Federal Emergency Management Agency dated February 17, 2000, the above-numbered Declaration is hereby amended to extend the deadline for filing applications for physical damage as a result of this disaster from February 17, 2000 to February 29, 2000.

All other information remains the same, i.e., the deadline for filing applications for economic injury is June 16, 2000.

(Catalog of Federal Domestic Assistance Program Nos. 59002 and 59008.)

Dated: February 18, 2000.
Bernard Kulik,
Associate Administrator for Disaster Assistance.

[FR Doc. 00-4600 Filed 2-25-00; 8:45 am]

BILLING CODE 8025-01-P